DEPARTMENT OF COMMERCE

International Trade Administration

Oil and Gas Trade Mission to Israel—Clarification and Amendment

AGENCY: International Trade Administration, Department of Commerce.

ACTION: Notice.

SUMMARY: The United States Department of Commerce, International Trade Administration, U.S. and Foreign Commercial Service (CS) is publishing this amendment to the Notice of the Oil and Gas Trade Mission to Israel, 77 FR 21748, April 11, 2012, to amend the Notice to reflect minor changes in the timeline and agenda. The revised notice will include the new dates of October 28-November 1, 2012 and the resulting agenda changes.

SUPPLEMENTARY INFORMATION:

Amendments To Revise the Timeline and Notional Agenda To Reflect Minor Changes

Background

To accommodate schedules and traditions, the timeline of the Oil and Gas Trade Mission to Israel has been changed to October 28-November 1, 2012.

Amendments:

1. For the reasons stated above, the Mission Description and Notional Agenda sections of the Notice of the Oil and Gas Trade Mission to Israel, 77 FR 21748, April 11, 2012, is amended to read as follows:

Mission Description

The United States Department of Commerce (DOC), International Trade Administration (ITA), U.S. and Foreign Commercial Service (CS), is organizing an Executive-led Oil and Gas Trade Mission to Israel, October 28-November 1, 2012. This mission is designed to be led by a Senior Commerce Department official. The purpose of the mission is to introduce U.S. firms to Israel's rapidly expanding oil and gas market and to assist U.S. companies pursuing export opportunities in this sector. The mission to Israel is intended to include representatives from leading U.S. companies that provide services to oil and gas facilities, from design and construction through to project implementation, maintenance of facilities, and environmental protection. The mission will visit Tel Aviv and Jerusalem, and will include a visit to a to-be-determined site (e.g., port or company office). Mission participants will attend the 2012 Israel Energy and Business Convention. Held for the 10th consecutive year, by Eco Energy and Tachlit Conferences, this is Israel's major energy forum. The convention assembles representatives of companies and senior Israeli and foreign policy makers, bringing them together with the Israeli financial and business community.

The mission will help participating firms gain market insights, make industry contacts, solidify business strategies, and advance specific projects, with the goal of increasing U.S. exports to Israel. The mission will include one-on-one business appointments with pre-screened potential buyers, agents, distributors and joint venture partners; meetings with government officials; and high-level networking events. Participating in an official U.S. industry delegation, rather than traveling to Israel on their own, will enhance the companies' ability to secure meetings in Israel.

Notional Timetable
Sunday, October 28, 2012 | • Tel Aviv
| ○ Participation in Israel Energy and Business Convention 2012.
| ○ Welcome dinner with Trade Mission Leader at Neve Zedek:
| Embassy briefing.
Monday, October 29, 2012 | • Tel Aviv
| ○ Participation in Israel Energy and Business Convention 2012 (optional).
| ○ B2B meetings.
| ○ Networking reception at Ambassador's residence.
Tuesday, October 30, 2012 | • Tel Aviv
| ○ GOI meetings in Jerusalem.
| ○ Lunch in Jerusalem followed by sightseeing.
| ○ Return to Tel Aviv.
Wednesday, October 31, 2012 | • Ashdod
| ○ Ashdod Port (optional).
| ○ B2B meetings.
| ○ Lunch.
| ○ Depart hotel to GOI Roundtable with IDC Herzliya.
| Selected Trade Mission participants to present to GOI questions/concerns.
| ○ Dinner/Reception with relevant Government of Israel Sr. Officials and IDC Herzliya.
Thursday, November 1, 2012 | • Meetings with Noble Energy (Herzliya Pituah)
| • Visit Haifa port and Haifa shipyards.
| • B2B meetings.
| • Departure.

FOR FURTHER INFORMATION CONTACT: David McCormack, International Trade Specialist, Phone: 202.482.2833, Email: david.mccormack@trade.gov.

Elnora Moye,
Trade Program Assistant.

[FR Doc. 2012-19822 Filed 8-13-12; 8:45 am]

BILLING CODE 3510-FP-P